DEPARTMENT OF TRANSPORTATION

National Highway Traffic Safety Administration

49 CFR Parts 523, 531, 533, 535, 536, and 537

[NHTSA-2023-0022]

RIN 2127-AM55

Corporate Average Fuel Economy Standards for Passenger Cars and Light Trucks for Model Years 2027-2032 and Fuel Efficiency Standards for Heavy-Duty Pickup Trucks and Vans for Model Years 2030-2035; Correction

AGENCY: National Highway Traffic Safety Administration (NHTSA).

ACTION: Final rule; correction.

SUMMARY: This document corrects technical errors in the final rule that appeared in the Federal Register on June 24, 2024, entitled “Corporate Average Fuel Economy Standards for Passenger Cars and Light Trucks for Model Years 2027-2032 and Fuel Efficiency Standards for Heavy-Duty Pickup Trucks and Vans for Model Years 2030-2035.” That document finalized new Corporate Average Fuel Economy (CAFE) standards for passenger cars and light trucks to be manufactured in model years (MYs) 2027-2031, and new fuel efficiency standards for heavy-duty pickup trucks and vans (HDPUVs) to be manufactured in MYs 2030-2035.

DATES: This rule is effective August 23, 2024.

FOR FURTHER INFORMATION CONTACT: Joseph Bayer, CAFE Program Division Chief, Office of Rulemaking, National Highway Traffic Safety Administration, 1200 New Jersey Avenue SE, Washington, DC 20590; email: joseph.bayer@dot.gov.

SUPPLEMENTARY INFORMATION: NHTSA has identified a few minor errors in the final rule establishing new CAFE standards for passenger cars and light trucks and new fuel efficiency standards for HDPUVs. Specifically, NHTSA has identified three errors in the final rule related to the minimum domestic passenger car standards (MDPCS) as well as one incorrect statutory citation. The final rule will continue to be effective on August 23, 2024.

Regarding the MDPCS, in the preamble to the final rule, NHTSA explained that, to account for recent projection errors as a part of estimating the total passenger car fleet fuel economy, NHTSA was retaining the 1.9 percent adjustment that was first used for the MDPCS in the 2020 final rule.¹ However, the MDPCS included in the June 24, 2024 final rule were not calculated using an adjusted projected total passenger car fleet fuel economy. Instead, the MDPCS included in the final rule were calculated at 92 percent of the unadjusted projected fuel economy. To correct this oversight, NHTSA is issuing this notice to correct the inconsistency in the MDPCS listed in two tables in the preamble of the final rule as well as in the regulatory text. These changes properly reflect the agency's original intent as described in the final rule, and do not change the agency's intent regarding manufacturers' compliance obligations.

¹ 89 FR 52540 at 52782.

NHTSA was also made aware of an error on page 52834 in the issue of June 24, 2024. Specifically, there is a sentence that explains that the prohibition on considering the fuel economy of battery electric vehicles “applies only when NHTSA is making decisions about whether CAFE standards are maximum feasible under 32902(c).” However, the correct statutory provision that should be referenced is 32902(f) because the rule issues new CAFE standards and does not amend existing standards.

I. Preamble Corrections

In final rule FR Doc. 2024-12864, beginning on page 52540 in the issue of June 24, 2024, make the following corrections, in the Supplementary Information section.

1. On page 52548, the existing Table I-3 is corrected as follows:

Table I-3—Minimum Domestic Passenger Car Standard With Offset (mpg)
2027 | 2028 | 2029 | 2030 | 2031 | 2032 (augural)
54.2 | 55.2 | 56.4 | 57.5 | 58.7 | 59.9

2. On page 52568, the existing Table II-1 is corrected as follows:

Table II-1—Final Minimum Domestic Passenger Car Standard (MPG)
2027 | 2028 | 2029 | 2030 | 2031 | 2032 (augural)
54.2 | 55.2 | 56.4 | 57.5 | 58.7 | 59.9

3. On page 52834, in the first and second columns, the sentence “Which is to say, for purposes of this rulemaking, the prohibition applies only when NHTSA is making decisions about whether the CAFE standards are maximum feasible under 32902(c).” is corrected to read “Which is to say, for purposes of this rulemaking, the prohibition applies only when NHTSA is making decisions about whether the CAFE standards are maximum feasible under 32902(f).”

II. Regulatory Language Corrections

In final rule FR Doc. 2024-12864, beginning on page 52540 in the issue of June 24, 2024, make the following corrections, in the Regulatory Text section.

§ 531.5 [Corrected]

1. On page 52948, in the first column, Table 4 to Paragraph (d) is corrected as follows:

Table 4 to Paragraph (d)—Minimum Fuel Economy Standards for Domestically Manufactured Passenger Automobiles, MYs 2011-2031
Model year | Minimum standard
2011 | 27.8
2012 | 30.7
2013 | 31.4
2014 | 32.1
2015 | 33.3
2016 | 34.7
2017 | 36.7
2018 | 38.0
2019 | 39.4
2020 | 40.9
2021 | 39.9
2022 | 40.6
2023 | 41.1
2024 | 44.3
2025 | 48.1
2026 | 53.5
2027 | 54.2
2028 | 55.2
2029 | 56.4
2030 | 57.5
2031 | 58.7

Issued in Washington, DC, under authority delegated in 49 CFR 1.95 and 501.5.
Sophie Shulman,
Deputy Administrator.

[FR Doc. 2024-16240 Filed 7-26-24; 8:45 am]

BILLING CODE 4910-59-P